DEPARTMENT OF JUSTICE

Foreign Claims Settlement Commission

Privacy Act of 1974; Systems of Records

AGENCY: Foreign Claims Settlement Commission; Justice.

ACTION: Revisions of Notice of Privacy Act Systems of Records.

SUMMARY: Pursuant to the provisions of the Privacy Act of 1974, 5 U.S.C. 552a, notice is given that the Foreign Claims Settlement Commission proposes to modify all of its Privacy Act Systems of Records, as identified in the list set forth below, to include a new routine use that allows disclosure to former employees for purposes of responding to official inquiries by government entities or professional licensing authorities in accordance with the Department of Justice regulation governing access under such circumstances, 28 CFR 16.300-01. The new routine use also allows disclosure to former employees when the Department requires information and/or consultation assistance from the former employee that is necessary for personnel-related or other official purposes regarding a matter within that person's former area of responsibility.

In accordance with 5 U.S.C. 552a(e)(4) and (11), the public is given a 30-day period in which to comment; and the Office of Management and Budget (OMB), which has oversight responsibility under the Privacy Act, requires a 40-day period in which to conclude its review of the systems. Therefore, please submit any comments by October 9, 2007. The public, OMB, and the Congress are invited to submit any comments to David E. Bradley, Chief Counsel, Foreign Claims Settlement Commission, Washington, DC 20579 (Room 6002, Bicentennial Building). In accordance with 5 U.S.C. 552a(r), the Commission has provided a report to OMB and the Congress.

Accordingly, pursuant to the provisions of 5 U.S.C. 552a, the Foreign Claims Settlement Commission hereby publishes notice of its proposal to supplement the list of Routine Uses of the Records Maintained in each of its below-listed Privacy Act Systems of Records, including the Categories of Users and the Purposes of Such Uses, by including the following additional Routine Use: “The Commission may disclose relevant and necessary information to a former employee of the Commission for purposes of: responding to an official inquiry by a federal, state, or local government entity or professional licensing authority, in accordance with applicable Department of Justice regulations; or facilitating communications with a former employee that may be necessary for personnel-related or other official purposes where the Commission requires information and/or consultation assistance from the former employee regarding a matter within that person's former area of responsibility.”

Foreign Claims Settlement Commission Privacy Act Systems of Records

Justice/FCSC-1, Indexes of Claimants (Alphabetical)

Justice/FCSC-3, Certifications of awards

Justice/FCSC-4, China, Claims Against

Justice/FCSC-5, Civilian Internees (Vietnam)

Justice/FCSC-8, Cuba, Claims Against

Justice/FCSC-9, Czechoslovakia, Claims Against (2nd Program)

Justice/FCSC-10, East Germany, Registration of Claims Against

Justice/FCSC-11, Federal Republic of Germany, Questionnaire Inquiries from

Justice/FCSC-12, Hungary, Claims Against (2nd Program)

Justice/FCSC-14, Micronesia, Claims Arising in

Justice/FCSC-16, Prisoners of War (Pueblo)

Justice/FCSC-17, Prisoners of War (Vietnam)

Justice/FCSC-19, Soviet Union, Claims Against

Justice/FCSC-21, German Democratic Republic, Claims Against

Justice/FCSC-23, Vietnam, Claims for Losses Against

Justice/FCSC-24, Ethiopia, Claims for Losses Against

Justice/FCSC-25, Egypt, Claims Against

Justice/FCSC-26, Albania, Claims Against

Justice/FCSC-27, Germany, Holocaust Survivors' Claims Against

Justice/FCSC-28, Iraq, Registration of Potential Claims Against

Mauricio J. Tamargo,
Chairman.

[FR Doc. E7-17093 Filed 8-28-07; 8:45 am]

BILLING CODE 4410-BA-P